NUCLEAR REGULATORY COMMISSION

Independent External Review Panel To Identify Vulnerabilities in the U.S. Nuclear Regulatory Commission's Materials Licensing Program: Meeting Notice

AGENCY: U.S. Nuclear Regulatory Commission.

ACTION: Notice of meeting.

SUMMARY: NRC will convene a meeting of the Independent External Review Panel to Identify Vulnerabilities in the U.S. Nuclear Regulatory Commission's (NRC) Materials Licensing Program from November 27 through November 30, 2007. A sample of agenda items to be discussed during the public session includes: (1) History of the NRC's “good faith” presumption in the licensing process; (2) pre-licensing guidance; and (3) specific, general, and import/export licensing procedures and processes. A copy of the agenda for the meeting can be obtained by e-mailing Mr. Aaron T. McCraw at the contact information below.

Purpose: Initiate the panel's assessment of the NRC's licensing program beginning with an examination of the NRC's “good faith” presumption and specific procedures and processes of the licensing program.

Date and Time for Closed Sessions: November 30, 2007, from 8 a.m. to 11 a.m. This session will be closed so that NRC staff and the Review Panel can discuss safeguards information and pre-decisional information pursuant to 5 U.S.C. 552b(c)(3) and 5 U.S.C. 552b(c)(9)(B), respectively.

Date and Time for Open Sessions: November 27, 2007, from 2 p.m. to 4:45 p.m.; and November 28-29, from 9 a.m. to 4:30 p.m.

Address for Public Meeting: U.S. Nuclear Regulatory Commission, Two White Flint North Building, 11545 Rockville Pike, Rockville, Maryland 20852. Specific room locations will be indicated for each day on the agenda.

Public Participation: Any member of the public who wishes to participate in the meeting should contact Mr. McCraw using the information below.

FOR FURTHER INFORMATION CONTACT: Aaron T. McCraw, e-mail: atm@nrc.gov, telephone: (301) 415-1277.

Conduct of the Meeting

Mr. Thomas E. Hill will chair the meeting. Mr. Hill will conduct the meeting in a manner that will facilitate the orderly conduct of business. The following procedures apply to public participation in the meeting:

1. Persons who wish to provide a written statement should submit an electronic copy to Mr. McCraw at the contact information listed above. All submittals must be received by November 20, 2007, and must pertain to the topics on the agenda for the meeting.

2. Questions and comments from members of the public will be permitted during the meeting, at the discretion of the Chairman.

3. The transcript and written comments will be available for inspection at the NRC Public Document Room, 11555 Rockville Pike, Rockville, Maryland 20852-2738, telephone (800) 397-4209, on or about March 1, 2008.

4. Persons who require special services, such as those for the hearing impaired, should notify Mr. McCraw of their planned attendance.

This meeting will be held in accordance with the Atomic Energy Act of 1954, as amended (primarily section 161a); the Federal Advisory Committee Act (5 U.S.C. App.); and the Commission's regulations in Title 10, U.S. Code of Federal Regulations, Part 7.

Dated: November 6, 2007.
Andrew L. Bates,
Advisory Committee Management Officer.

[FR Doc. E7-22184 Filed 11-13-07; 8:45 am]

BILLING CODE 7590-01-P